DEPARTMENT OF STATE

[Public Notice 4526]

Certification Concerning Restoration of Nondiscriminatory Treatment to Serbia and Montenegro Under Public Law 102-420

Pursuant to the authority vested in me as Secretary of State, including under Section 1(c) of Public Law 102-420, and the President's Delegation of Responsibilities Related to Serbia and Montenegro dated March 22, 2001, I hereby certify that Serbia and Montenegro (1) has ceased its armed conflict with the other ethnic peoples of the region formerly comprising the Socialist Federal Republic of Yugoslavia, (2) has agreed to respect the borders of the six republics that comprised the Socialist Federal Republic of Yugoslavia under the 1974 Yugoslav Constitution; and (3) has ceased all support of Serbian forces inside Bosnia-Hercegovina.

This Certification shall be published in the Federal Register, and copies shall be provided to the appropriate committees of the Congress.

Dated: October 31, 2003.
Colin L. Powell,
Secretary of State.

In 1992, Congress enacted Public Law 102-420 withdrawing most favored nation status (now referred to as “normal trade relations” or “NTR”) from Serbia and Montenegro. Pursuant to Public Law 102-420, the President may restore nondiscriminatory treatment to goods that are the product of Serbia or Montenegro 30 days after her certifies to Congress that the conditions set forth in the statute have been met. On March 22, 2001, the President delegated to the Secretary of State authority to make this certification. The certification was notified to Congress on November 4, 2003, and thus normal trade relations status will be restored to Serbia and Montenegro as of December 4, 2003.

[FR Doc. 03-28438 Filed 11-12-03; 8:45 am]

BILLING CODE 4710-10-P